DEPARTMENT OF COMMERCE

Foreign-Trade Zones Board

[S-82-2019]

Foreign-Trade Zone 294—Western Kentucky; Application for Expansion of Subzone; Mayfield Consumer Products, Mayfield, Kentucky

An application has been submitted to the Foreign-Trade Zones (FTZ) Board by the Paducah McCracken County Riverport Authority, grantee of FTZ 294, requesting an expansion of Subzone 294A on behalf of Mayfield Consumer Products. The application was submitted pursuant to the provisions of the Foreign-Trade Zones Act, as amended (19 U.S.C. 81a-81u), and the regulations of the FTZ Board (15 CFR part 400). It was formally docketed on May 8, 2019.

Subzone 294A currently consists of the following sites: Site 1 (14.4 acres) 112 Industrial Drive, Mayfield; Site 2 (3.47 acres) 1102 Fulton Road, Mayfield; and, Site 3 (25 acres) 22 Rifle Trail, Hickory Industrial Park, Hickory.

The proposed expanded subzone would include the following additional site: Site 4 (2.3 acres), 1 General Street, Mayfield. No authorization for additional production activity has been requested at this time. The subzone will be subject to the existing activation limit of FTZ 294.

In accordance with the FTZ Board's regulations, Elizabeth Whiteman of the FTZ Staff is designated examiner to review the application and make recommendations to the Executive Secretary.

Public comment is invited from interested parties. Submissions shall be addressed to the FTZ Board's Executive Secretary and sent to: ftz@trade.gov. The closing period for their receipt is June 24, 2019. Rebuttal comments in response to material submitted during the foregoing period may be submitted during the subsequent 15-day period to July 8, 2019.

A copy of the application will be available for public inspection in the “Reading Room” section of the FTZ Board's website, which is accessible via www.trade.gov/ftz.

For further information, contact Elizabeth Whiteman at Elizabeth.Whiteman@trade.gov or (202) 482-0473.

Dated: May 8, 2019.
Andrew McGilvray,
Executive Secretary.

[FR Doc. 2019-09905 Filed 5-13-19; 8:45 am]

BILLING CODE 3510-DS-P